DEPARTMENT OF HEALTH AND HUMAN SERVICES

Centers for Disease Control and Prevention

Agency Information Collection Activities Announcement of OMB Approval; Restrictions on Interstate Travel of Persons

AGENCY: Centers for Disease Control and Prevention (CDC), Department of Health and Human Services.

ACTION: Notice.

SUMMARY: The Centers for Disease Control and Prevention (CDC) is announcing that a collection of information entitled Restriction on Interstate Travel of Persons has been approved by the Office of Management and Budget (OMB) under the Paperwork Reduction Act of 1995.

FOR FURTHER INFORMATION CONTACT: Anne O'Connor, Assistant Reports Clearance Officer, Centers for Disease Control and Prevention, Office of Program Planning and Evaluation, 1600 Clifton Road, MS D-24, Atlanta, Georgia 30333, (404) 639-7090.

SUPPLEMENTARY INFORMATION: In the Federal Register of August 1, 2000 (65 FR 148, Pgs. 46935-46936), the agency announced that the proposed information collection had been submitted to OMB for review and clearance. An agency may not conduct or sponsor, and a person is not required to respond to, a collection of information unless it displays a currently valid OMB control number. OMB has now approved the information collection and has assigned OMB control number 0920-0488. The approval expires on September 30, 2003. A copy of the supporting statement for this information collection is available by contacting the CDC Reports Clearance Officer at the address and phone number listed above.

Dated: September 28, 2000.
Nancy Cheal,
Acting Associate Director for Policy, Planning, and Evaluation, Centers for Disease Control and Prevention (CDC).

[FR Doc. 00-25430 Filed 10-3-00; 8:45 am]

BILLING CODE 4163-18-P